DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information should have practical utility; (b) the accuracy of the agency's estimate of the burden of the proposed collection of information; (c) ways to enhance the quality, utility, and clarity of the information to be collected; and (d) ways to minimize the burden of the collection of information on respondents, including the use of automated collection techniques or other forms of information technology.

Proposed Project: The National Sample Survey of Registered Nurses 2008 (OMB No. 0915-0276)—Reinstatement with Change

The National Sample Survey of Registered Nurses (NSSRN) is carried out to assist in fulfilling the congressional mandate of section 806(f) of the Public Health Service Act (42 U.S.C. 296e) requiring that discipline-specific workforce information and analytical activities are carried out as part of the advanced nursing education, workforce diversity, and basic nursing education and practice programs.

Government agencies, legislative bodies and health professionals use data from previous national sample surveys of registered nurses to inform workforce policies. The information from this survey will continue to serve policy makers and other consumers. The data collected in this survey will provide information on employment status of registered nurses (RNs), the setting in which they are employed and the proportion of RNs who are employed full-time and part-time in nursing. The data will also indicate the number of RNs who are employed in jobs unrelated to nursing.

The proposed survey design for the 2008 NSSRN updates the design used in the previous eight surveys. A probability sample is selected from a sampling frame compiled from files provided by the State Boards of Nursing in the 50 States and the District of Columbia. These files constitute a multiple sampling frame of all RNs licensed in the 50 States and the District of Columbia. Sampling rates are set for each State based on considerations of statistical precision of the estimates and the costs involved in obtaining reliable national and State-level estimates.

Each sampled nurse will be asked to complete a self-administered questionnaire, which includes items on educational background, duties, employment status and setting, geographic mobility, and income. An electronic version was offered in the 2004 survey and will be again considered as a mode for response.

Estimated burden is as follows:

Form | Number of respondents | Responses per respondent | Total responses | Hours per response | Total burden hour
Nursing Survey | 42,204 | 1 | 42,204 | .33 | 13,927

Send comments to Susan Queen, Ph.D., HRSA Reports Clearance Officer, Room 10-33, Parklawn Building, 5600 Fishers Lane, Rockville, MD 20857. Written comments should be received within 60 days of this notice.

Dated: October 3, 2007.
Alexandra Huttinger,
Acting Director, Division of Policy Review and Coordination.

[FR Doc. E7-20079 Filed 10-10-07; 8:45 am]

BILLING CODE 4165-15-P